DEPARTMENT OF HEALTH AND HUMAN SERVICES

Centers for Disease Control and Prevention

Mine Safety and Health Research Advisory Committee (MSHRAC); Cancellation of Meeting

Notice is hereby given of a change in the meeting of the Mine Safety and Health Research Advisory Committee (MSHRAC); June 21, 2021, 10:00 a.m.-2:30 p.m., EDT, in the original FRN.

The meeting was published in the Federal Register on April 23, 2021, Volume 86, Number 77, page 21739.

This meeting is being canceled in its entirety.

FOR FURTHER INFORMATION CONTACT: George W. Luxbacher, Designated Federal Officer, MSHRAC, National Institute for Occupational Safety and Health, Centers for Disease Control and Prevention, 2400 Century Parkway NE, Atlanta, GA 30345; Telephone: (404) 498-2808; email: gluxbacher@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-15800 Filed 7-23-21; 8:45 am]

BILLING CODE 4163-18-P